NATIONAL SCIENCE FOUNDATION

Advisory Committee for Mathematical and Physical Sciences Notice of Meeting

In accordance with the Federal Advisory Committee Act (Pub. L. 92-463, as amended), the National Science Foundation announces the following meeting:

Name: Advisory Committee for Mathematical and Physical Sciences (#66).

Date/Time: November 5, 2003 12-6 PM, November 6, 2003 8-6 PM, November 7, 2003 8 AM-3 PM.

Place: 4201 Wilson Boulevard, Arlington, VA 22230, Room 375.

Type of Meeting: Open.

Contact Person: Dr. Morris L. Aizenman, Senior Science Associate, Directorate for Mathematical and Physical Sciences, Room 1005, National Science Foundation, 4201 Wilson Boulevard, Arlington, VA 22230. (703) 292-8807.

Purpose of Meeting: To provide advice and recommendations concerning NSF science and education activities within the Directorate for Mathematical and Physical Sciences.

Agenda: November 5: Briefing to new MPSAC members. November 6-7: Briefing on current status of Directorate; Meeting with members of the Education and Human Resources Directorate Advisory Committee; Meeting of MPSAC with Divisions within MPS Directorate; Review of the Committee of Visitors Report on the Office of Multidisciplinary Activities; Long-Range Planning.

Summary Minutes: May be obtained from the contact person listed above.

Dated: October 7, 2003.
Susanne E. Bolton,
Committee Management Officer.

[FR Doc. 03-25833 Filed 10-10-03; 8:45 am]

BILLING CODE 7555-01-M